DEPARTMENT OF THE INTERIOR

National Park Service

[N6583; NPS-WASO-NAGPRA-NPS0041292; PPWOCRADN0-PCU00RP14.R50000]

Notice of Inventory Completion: Illinois State Museum, Springfield, IL

AGENCY: National Park Service, Interior.

ACTION: Notice.

SUMMARY: In accordance with the Native American Graves Protection and Repatriation Act (NAGPRA), the Illinois State Museum has completed an inventory of human remains and associated funerary objects and has determined that there is a cultural affiliation between the human remains and associated funerary objects and Indian Tribes or Native Hawaiian organizations in this notice.

DATES: Repatriation of the human remains and associated funerary objects in this notice may occur on or after December 18, 2025.

ADDRESSES: Send written requests for repatriation of the human remains and associated funerary objects in this notice to Dr. Brooke M. Morgan, Illinois State Museum Research & Collections Center, 1011 East Ash Street, Springfield, IL 62703, email brooke.morgan@illinois.gov.

SUPPLEMENTARY INFORMATION: This notice is published as part of the National Park Service's administrative responsibilities under NAGPRA. The determinations in this notice are the sole responsibility of the Illinois State Museum, and additional information on the determinations in this notice, including the results of consultation, can be found in the inventory or related records. The National Park Service is not responsible for the determinations in this notice.

Abstract of Information Available

Based on the information available, human remains representing at least one individual have been reasonably identified. There are four associated funerary objects, including one dog burial, one bone awl, one lot of fauna, and one groundstone pestle. The remains and funerary objects were removed from the Stilwell II site in Pike County, IL, in 1961 by Gregory Perino. They transferred to the Illinois State Museum in 1961 but not identified as human remains until reviewing fauna in 2018. To our knowledge, no hazardous substances have been used to treat the human remains or funerary objects.

Based on the information available, human remains representing at least one individual have been reasonably identified. No associated funerary objects are present. The remains were recovered during a surface survey of Montezuma Mounds in 2008 and transferred to the Illinois State Museum in 2009 under the Illinois Human Remains Protection Act. To our knowledge, no hazardous substances have been used to treat the human remains.

Based on the information available, 72 associated funerary objects have been identified. They were removed on an unknown date from Montezuma Mounds and donated to Washington University in St. Louis, MO. They were subsequently transferred to the Illinois State Museum between 2012-2017. The 72 funerary objects include 27 chert bifaces, 20 bone perforators, two worked bone pieces, one cut antler, two obsidian blades, one three-quarter grooved axe, 12 ceramic sherds, two bone beads, two lots of shell beads, one shell pendant, one glass bead, and one lot brass and iron scraps. To our knowledge, no hazardous substances have been used to treat the funerary objects.

Based on the information available, one associated funerary object has been identified. The one funerary object is a dog burial that was removed from Joe Gay Mound in Pike County, IL, in 1970 by Gregory Perino. It transferred to the Illinois State Museum in 1970. To our knowledge, no hazardous substances have been used to treat the funerary object.

Based on the information available, two associated funerary objects have been identified. The two funerary objects are one cougar maxilla and one lot of green pigment removed from the Lawrence Gay Mound group in Pike County, IL, in 1970 by Gregory Perino. The cougar maxilla transferred to the Illinois State Museum in 1970, and the pigment transferred to the Illinois State Museum in 2010 from the Center for American Archeology. To our knowledge, no hazardous substances have been used to treat the funerary objects.

Based on the information available, 15 associated funerary objects have been identified. The 15 funerary objects are 10 chert flakes, one retouched flake, one ceramic sherd, two pieces of chert, and one groundstone cobble removed from the Lawrence Gay Mound group in Pike County, IL, in 1984 during archaeological survey. They transferred to the Illinois State Museum from the Center for American Archeology in 2010. To our knowledge, no hazardous substances have been used to treat the funerary objects.

Based on the information available, one associated funerary object has been identified. The one funerary object is one bone pin or perforator removed from Bedford Mound in Pike County, IL, in 1904-1905. It transferred to the Illinois State Museum between 2012-2017 from Washington University in St. Louis, MO. To our knowledge, no hazardous substances have been used to treat the funerary object.

Cultural Affiliation

Based on the information available and the results of consultation, cultural affiliation is reasonably identified by the geographical location or acquisition history of the human remains and associated funerary objects described in this notice.

Determinations

The Illinois State Museum has determined that:

• The human remains described in this notice represent the physical remains of two individuals of Native American ancestry.

• The 95 objects described in this notice are reasonably believed to have been placed intentionally with or near individual human remains at the time of death or later as part of the death rite or ceremony.

• There is a reasonable connection between the human remains and associated funerary objects described in this notice and the Citizen Potawatomi Nation, Oklahoma; Eastern Shawnee Tribe of Oklahoma; Forest County Potawatomi Community, Wisconsin; Iowa Tribe of Kansas and Nebraska; Kaw Nation, Oklahoma; Match-e-be-nash-she-wish Band of Pottawatomi Indians of Michigan; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Sac & Fox Tribe of the Mississippi in Iowa; Shawnee Tribe; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 18, 2025. If competing requests for repatriation are received, the Illinois State Museum must determine the most appropriate requestor prior to repatriation. Requests for joint repatriation of the human remains and associated funerary objects are considered a single request and not competing requests. The Illinois State Museum is responsible for sending a copy of this notice to the Indian Tribes and Native Hawaiian organizations identified in this notice.

Authority: Native American Graves Protection and Repatriation Act, 25 U.S.C. 3003, and the implementing regulations, 43 CFR 10.10.

Dated: September 30, 2025.
Melanie O'Brien,
Manager, National NAGPRA Program.

[FR Doc. 2025-20101 Filed 11-17-25; 8:45 am]

BILLING CODE 4312-52-P